DEPARTMENT OF LABOR

Employment and Training Administration

Notice of Approval of Indiana's Application for a Waiver of the Additional Credit Reduction That Was To Be Applied to the 2013 Credit Reduction Under the Federal Unemployment Tax Act

AGENCY: Employment and Training Administration, Labor.

ACTION: Notice.

SUMMARY: Sections 3302(c)(2) and 3302(d)(3) of the Federal Unemployment Tax Act (FUTA) provide that employers in a state that has an outstanding balance of advances under Title XII of the Social Security Act at the beginning of January 1 of two or more consecutive years are subject to a reduction in credits otherwise available against the FUTA tax for the calendar year in which the most recent such January 1 occurs, if a balance of advances remains at the beginning of November 10 of that year. Also section 3302(c)(2) of FUTA provides that a state may face additional credit reduction for a year by failing to meet certain criteria. Indiana applied for a waiver of the 2013 additional credit reduction under section 3302(c)(2)(C) of FUTA and because Indiana has taken no action to reduce the solvency of their Unemployment Insurance Trust Fund in the 12 months ending September 30, 2013, they have successfully qualified for the waiver. It has therefore been determined that Indiana meets all of the criteria of this section and thus qualifies for the waiver of additional credit reduction and therefore employers in Indiana will have no additional credit reduction applied for calendar year 2013.

Signed in Washington, DC, this 5th day of December 2013.
Eric M. Seleznow,
Acting Assistant Secretary for Employment and Training.

[FR Doc. 2013-29849 Filed 12-16-13; 8:45 am]

BILLING CODE 4510-FW-P